DEPARTMENT OF THE INTERIOR

Bureau of Land Management

[BLM EQD SSB-LLWO250000.L12200000.PM0000]

Proposed Information Collection: Surveys and Focus Groups To Support Outcomes-Focused Management

AGENCY: Bureau of Land Management, Interior.

ACTION: 60-day notice and request for comments.

SUMMARY: In compliance with the Paperwork Reduction Act, the Bureau of Land Management (BLM) will ask the Office of Management and Budget (OMB) to approve a collection of information to support recreation planning and management on public lands. The respondents will be recreationists visiting BLM-managed areas and members of communities near BLM-managed areas. The BLM invites public comments on this proposed collection. A Federal agency may not conduct or sponsor, and a person is not required to respond to, a collection of information unless it displays a currently valid OMB control number.

DATES: Please submit comments on the proposed information collection by September 14, 2015.

ADDRESSES: Comments may be submitted by mail, fax, or electronic mail.

Mail: U.S. Department of the Interior, Bureau of Land Management, 1849 C Street NW., Room 2134LM, Attention: Anna Atkinson, Washington, DC 20240.

Fax: to Anna Atkinson at 202-245-0050.

Electronic mail: amatkinson@blm.gov.

Please indicate “Attn: 1004-XXXX” regardless of the form of your comments.

FOR FURTHER INFORMATION CONTACT: Dr. Peter J. Fix, University of Alaska Fairbanks, Department of Natural Resources Management, Fairbanks, AK 99775-7200; email: pjfix@alaska.edu; or phone: 907-474-6926.

SUPPLEMENTARY INFORMATION:

I. Abstract

The BLM's recently issued planning and management guidelines for outdoor recreation in Handbook 8320-1 require managers to consider recreational visitors' and local community members' perspectives on the preferred characteristics of the resource area (e.g., the type and amount of facilities/development, the number of other visitors present, etc.), the desired recreational experience, and longer-term benefits that might be realized. Information on these topics would assist with the development of a Land Use Plan (LUP) and monitor implementation of that LUP. The BLM proposes to collect information regarding these topics from two populations, recreational visitors and local community members, utilizing both surveys and focus groups.

For the surveys, the BLM would ask onsite, randomly selected recreational visitors 10 questions related to specific areas visited, activity participation, and basic demographics. After completion of those questions, the BLM would ask if they are interested in participating in a more in-depth mailback or internet survey. The mailback/internet survey would ask approximately 25 detailed questions about the trip, including: specific areas and attractions visited, activity participation, reasons for visiting and expected outcomes, evaluation of their visit, preferences for management of the area. Demographic questions would also be included. A reminder postcard/email will be sent after one week and a second survey will be sent to those who did not respond after two weeks. Surveys would be conducted at no more than 108 field offices.

As a random sample is not the goal of the focus groups, participants would be solicited through a variety of methods including agency lists of key stakeholder groups; outreach to BLM partners; BLM field office Web sites; flyers at visitor centers, information kiosks, BLM offices, public spaces of gateway communities, and local hotels and restaurants; and local newspaper articles. During the focus group, the BLM staff would lead participants through a series of topics regarding how often participants visit the site in question, what makes the site special to them/the local community, reasons for visiting, desired outcomes from the site, perceived positive/negative changes to the site, and the participants' thoughts on partnerships and management. Questions asked of participants would include a mix of open-ended and fixed-choice responses. Answers will be recorded by electronic clickers and/or paper forms. The BLM field offices would be selected to administer a visitor survey based on one of two conditions: (1) A forthcoming Land Use Plan (LUP) in which Special Recreation Management Areas (SRMA) might be considered (e.g., high visitation, unique recreation opportunities, and unique natural features); or (2) a recently completed LUP in which SRMAs were designated. Gateway communities selected for focus groups would be those near a BLM field office with a forthcoming or recently completed LUP in which SRMAs will be considered or have been designated. The BLM would conduct a maximum of 648 focus groups over a 3-year period within the 12 states in which the BLM manages public lands.

The information gathered would be used to:

(1) Identify onsite experiences and longer-term outcomes desired/attained by visitors, local residents, and other relevant local stakeholders (e.g., improved health, improved family bonding, economic diversity).

(2) Determine the field office's ability to respond to identified recreational issues and opportunities and understand the relationships among desirable/attained outcomes, activities, setting characteristics, and service delivery systems (within BLM-administered and other public lands as well as those provided by local communities) which those outcomes and activities depend on.

(3) Develop LUPs that ensure visitor services and facilities are appropriate to provide desired experiences, settings and longer-term outcomes.

(4) Monitor progress towards meeting SRMA objectives put forth in the LUP.

(5) Prepare and maintain a continuing inventory of outdoor recreation values, kept current so as to reflect changing conditions and identify new and emerging values.

II. Data

OMB Control Number: This is a new collection; 1004-XXXX.

Title: Surveys and Focus Groups to Support Outcomes-Focused Management.

Affected Public: Visitors to BLM resource areas, residents and other relevant stakeholders (e.g., representatives of the business community, local government, etc.) of communities near BLM resource areas.

Respondent Obligation: Voluntary.

Frequency of Collection: Annually, no more than 36 BLM field offices would be surveyed (32 would be pre-LUP inventory/needs assessment surveys and 4 would be post-LUP monitoring surveys) and no more than 216 focus groups would be conducted.

Estimated Number of Annual Responses: pre-LUP inventory/needs assessment visitor surveys: 12,800; post-LUP monitoring visitor surveys: 1,600; focus groups: 5,400

Annual Burden Hours: We estimate the public reporting burden to be approximately 30 minutes per completed inventory/needs assessment visitor survey, 10 minutes per monitoring survey, and 90 minutes per focus group meeting participant. Total annual burden hours: 14,772.

A. | B. | C. | D.
Type of response | Number of responses | Time per response (minutes) | Total hours (Col. B × Col. C/60 min)
Pre-RMP, onsite contact | 20729 | 0.5 | 173
Pre-RMP, onsite survey (95% of above) | 19692 | 5 | 1641
Pre-RMP follow-up contacts (100% of above) | 19692 | 1 | 328
Pre-RMP follow-up completion of survey (65% of above) | 12800 | 20 | 4267
Total for Pre-RMP |  |  | 6409

A. | B. | C. | D.
Type of response | Number of responses | Time per response (minutes) | Total hours (Col. B × Col. C/60 min)
Post-RMP, onsite contact | 2591 | 0.5 | 22
Post-RMP, onsite survey (95% of above) | 2462 | 1 | 41
Post-RMP follow-up contacts (100% of above) | 2462 | 1 | 41
Post-RMP follow-up completion of survey (65% of above) | 1600 | 6 | 160
Total for Post-RMP |  |  | 264

A. | B. | C. | D.
Type of response | Number of responses | Time per response (minutes) | Total hours (Col. B × Col. C/60 min)
Focus group | 5400 | 90 | 8100

Estimated Reporting and Recordkeeping “Non-Hour Cost” Burden: There are no identified “non-hour cost” burdens associated with this collection of information.

III. Request for Comments

Comments are invited on: (1) The practical utility of the information being gathered; (2) the accuracy of the burden hour estimate; (3) ways to enhance the quality, utility, and clarity of the information to be collected; and (4) ways to minimize the burden of the collection of information on respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask BLM in your comment to withhold your personal identifying information from public review, we cannot guarantee that it will be done.

Anna Atkinson,
Bureau of Land Management, Information Collection Clearance Officer (Acting).

[FR Doc. 2015-17231 Filed 7-13-15; 8:45 am]

BILLING CODE 4310-84-P